DEPARTMENT OF LABOR

Wage and Hour Division

29 CFR Parts 500 to 899

Republication

CFR Correction

Title 29 of the Code of Federal Regulations, Parts 500 to 899, revised as of July 1, 2011, is being republished in its entirety. The earlier issuance inadvertently omitted footnotes 41 through 58, referenced in §§ 776.20 and 776.21. The omitted footnotes should appear on pages 368 through 371.

[FR Doc. 2011-26979 Filed 10-13-11; 5:19 pm]

BILLING CODE 4510-27-P